DEPARTMENT OF HEALTH AND HUMAN SERVICES

Administration for Children and Families

Submission for OMB Review; Comment Request

Title: Personal Responsibility Education Program (PREP) Multi-Component Evaluation—Data Collection Related to the Design and Implementation Study.

OMB No.: 0970-0398.

Description: The Office of Data Analysis, Research, and Evaluation (HHS/ACF/ACYF/ODARE) in the Administration for Children, Youth and Families (ACYF) and the Office of Planning, Research, and Evaluation (HHS/ACF/OPRE) in the Administration for Children and Families (ACF) propose a data collection activity as part of the Personal Responsibility Education Program (PREP) Multi-Component Evaluation.

The goals of the PREP Multi-Component Evaluation are to document how PREP programs are designed and implemented in the field, collect performance measure data for PREP programs, and assess the effectiveness of selected PREP-funded programs.

The PREP Multi-Component Evaluation contains three components: The “Design and Implementation Study,” the “Performance Analysis Study,” and the “Impact and In-Depth Implementation Study.” This notice is specific to data collection activities for the implementation portion of the Design and Implementation Study.

The goals of this portion of the study are to document how States and sub-awardees actually implemented their PREP programs, given their program designs. In order to meet this goal, both State PREP Administrators and a selection of sub-awardee program providers will be interviewed. The interviews will be used to understand important aspects of implementation, such as training, technical assistance and program fidelity monitoring.

Respondents: State grantee staff; State training and technical assistance staff; State program evaluator staff program providers.

Instrument | Total number of respondents | Annual number of respondents | Number of responses per respondent | Average burden hours per response | Total annual burden hours
Implementation Survey Interview Topic Guide: State-level Respondents | 16 | 6 | 1 | 1 | 6
Implementation Survey Interview Topic Guide: Provider-level Respondents | 16 | 6 | 1 | 1 | 6

Estimated Total Annual Burden Hours: 12.

Additional Information: Copies of the proposed collection may be obtained by writing to the Administration for Children and Families, Office of Planning, Research and Evaluation, 370 L'Enfant Promenade SW., Washington, DC 20447, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Karl Koerper,
OPRE Reports, Clearance Officer.

[FR Doc. 2014-20352 Filed 8-26-14; 8:45 am]

BILLING CODE 4184-01-P